DEFENSE NUCLEAR FACILITIES SAFETY BOARD

Sunshine Act Meeting

AGENCY: Defense Nuclear Facilities Safety Board.

ACTION: Notice of public meeting.

SUMMARY: Pursuant to the provisions of the Government in the Sunshine Act, 5 U.S.C. 552b, and as authorized by 42 U.S.C. 2286b, notice is hereby given of the Defense Nuclear Facilities Safety Board's (Board) public meeting and hearing.

FEDERAL REGISTER CITATIONS OF PREVIOUS ANNOUNCEMENTS 76 FR 11764 (March 3, 2011) and 76 FR 17627 (March 30, 2011).

PREVIOUSLY ANNOUNCED DATE AND TIME OF THE MEETING March 31, 2011, 9 a.m.

NEW DATE AND TIME OF THE MEETING May 25, 2011. Session I: 9 a.m.-11:45 a.m.; Session II: 1:30 p.m.-4:30 p.m.

CHANGES IN THE MEETING On May 25, 2011, the Board will hear from Department of Energy and National Nuclear Security Administration senior leaders concerning federal safety management and oversight policies being developed. This testimony was previously scheduled for the March 31, 2011 public meeting and hearing. The meeting and hearing will be held at the Defense Nuclear Facilities Safety Board, Public Hearing Room, 625 Indiana Avenue, NW., Suite 300, Washington, DC 20004-2901. The meeting and hearing will be presented live through audio streaming. A link to the presentation will be available on the Board's Web site (http://www.dnfsb.gov).

FOR FURTHER INFORMATION CONTACT: Brian Grosner, General Manager, Defense Nuclear Facilities Safety Board, 625 Indiana Avenue, NW., Suite 700, Washington, DC 20004-2901, (800) 788-4016. This is a toll-free number.

SUPPLEMENTARY INFORMATION: As previously announced, requests to speak may be submitted in writing or by telephone. Those who contact the Board prior to the close of business on May 24, 2011 will be scheduled for time slots beginning at approximately 3:30 p.m. Also, the Board will hold the record open until June 27, 2011 for the receipt of additional materials.

Dated: May 5, 2011.
Peter S. Winokur,
Chairman.

[FR Doc. 2011-11391 Filed 5-5-11; 4:15 pm]

BILLING CODE 3670-01-P